DEPARTMENT OF COMMERCE

Foreign-Trade Zones Board

[S-57-2015]

Foreign-Trade Zone 231—Stockton, California; Application for Subzone Expansion Subzone 231A, Medline Industries, Inc., Lathrop, California

An application has been submitted to the Foreign-Trade Zones (FTZ) Board by the Port of Stockton, California, grantee of FTZ 231, requesting two additional sites within Subzone 231A on behalf of Medline Industries, Inc. (Medline), located in Stockton and Tracy, California. The application was submitted pursuant to the provisions of the Foreign-Trade Zones Act, as amended (19 U.S.C. 81a-81u), and the regulations of the FTZ Board (15 CFR part 400). It was formally docketed on April 22, 2015.

Subzone 231A was approved on March 4, 2007 (72 FR 14516, 03/28/2007) and currently consists of one site: Site 1 (12.49 acres) 18250 Murphy Parkway, Lathrop. There is currently an application pending (S-166-2014, 79 FR 75787, 12/19/2014) requesting authority to add an additional site in Lathrop, CA (proposed Site 2). The applicant is now requesting authority to expand the subzone further to include two additional sites: Proposed Site 3 (24.3 acres), 1030 Runway Drive, Stockton; and, proposed Site 4 (61.53 acres), 24356 Hansen Road, Tracy. No authorization for production activity has been requested at this time. The expanded subzone would be subject to the existing activation limit of FTZ 231.

In accordance with the FTZ Board's regulations, Christopher Kemp of the FTZ Staff is designated examiner to review the application and make recommendations to the Executive Secretary.

Public comment is invited from interested parties. Submissions shall be addressed to the FTZ Board's Executive Secretary at the address below. The closing period for their receipt is June 8, 2015. Rebuttal comments in response to material submitted during the foregoing period may be submitted during the subsequent 15-day period to June 23, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Christopher Kemp at christopher.kemp@trade.gov or (202) 482-0862.

Dated: April 22, 2015.
Andrew McGilvray,
Executive Secretary.

[FR Doc. 2015-10047 Filed 4-28-15; 8:45 am]

BILLING CODE 3510-DS-P